DEPARTMENT OF THE INTERIOR

Minerals Management Service

Outer Continental Shelf, Pacific Region, Environmental Document Prepared for Plains Exploration and Production Company's Submarine Power Cable Repair Project

AGENCY: Minerals Management Service (MMS). Interior.

ACTION: Notice of availability of environmental assessment (EA) and finding of no significant impact (FONSI).

SUMMARY: The MMS prepared an EA for Plains Exploration and Production Company's Platform Hillhouse-to-Shore Submarine Power Cable Repair Project and issued a FONSI pursuant to the requirements of the National Environmental Policy Act (NEPA).

FOR FURTHER INFORMATION CONTACT: Minerals Management Service, Pacific Region, 770 Paseo Camarillo, Camarillo, CA 93010, Mr. John Lane, telephone (805) 389-7820.

SUPPLEMENTARY INFORMATION: The MMS prepares EAs and FONSIs for Outer Continental Shelf (OCS) oil and gas exploration and development activities and other operations on the Pacific OCS. Plains Exploration and Production Company's power cable repair project involves replacing up to 400 feet of failed power cable that links OCS Platform Hillhouse to shore in the County of Santa Barbara. The EA examines the potential environmental effects of the project and presents MMS's conclusions regarding the significance of those effects. The MMS prepares EAs to determine whether proposed projects constitute a major Federal action that significantly affects the quality of the human environment in the sense of NEPA 102(2)(C). A FONSI is prepared in those instances where the MMS finds that approval will not result in significant effects on the quality of the human environment. The FONSI briefly presents the basis for that finding and includes a summary or copy of the EA. The MMS completed the EA and issued the FONSI on January 31, 2005. This notice constitutes the public Notice of Availability of environmental documents required under the NEPA regulations.

Dated: February 11, 2005.
Thomas A. Readinger,
Associate Director for Offshore Minerals Management.

[FR Doc. 05-4033 Filed 3-1-05; 8:45 am]

BILLING CODE 4310-MR-P